DEPARTMENT OF VETERANS AFFAIRS

Advisory Committee on Women Veterans, Notice of Meeting

The Department of Veterans Affairs (VA) gives notice under the Federal Advisory Committee Act, 5 U.S.C. app. 2, that the Advisory Committee on Women Veterans will conduct a virtual meeting on May 9-11, 2022. The meetings will begin and ends as follows:

Date | Time | Location
May 9, 2022 | 10:00 a.m.-1:00 p.m. Eastern Standard Time (EST) | See WebEx link and call-in information below.
May 10, 2022 | 10:00 a.m.-1:00 p.m. (EST) | See WebEx link and call-in information below.
May 11, 2022 | 10:00 a.m.-12:00 p.m. (EST) | See WebEx link and call-in information below.

The meeting sessions are open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include updates from VA's Administrations and Staff Offices, as well as briefings on other issues impacting women Veterans.

No time will be allocated at this meeting for receiving oral presentations from the public. Interested parties should provide written comments for review by the Committee to Ms. Shannon L. Middleton at 00W@mail.va.gov no later than May 2, 2022. Any member of the public who wishes to observe the virtual meeting may use the following WebEx link: https://veteransaffairs.webex.com/veteransaffairs/j.php?MTID=m51ab4e28ba8610ac7926152b23d57b4b. To join by phone: 1-404-397-1596 (toll free); meeting number: 2760 037 3217; password: bmBDMUP$555.

Dated: April 13, 2022.
Jelessa M. Burney,
Federal Advisory Committee Management Officer.

[FR Doc. 2022-08248 Filed 4-15-22; 8:45 am]

BILLING CODE P